ENVIRONMENTAL PROTECTION AGENCY

[FRL-8209-1]

EPA Science Advisory Board; Notification of Public Meetings of the Integrated Human Exposure and Environmental Health Committees

AGENCY: Environmental Protection Agency (EPA).

ACTION: Notice.

SUMMARY: The Environmental Protection Agency (EPA) Science Advisory Board (SAB) Staff Office announces two public meetings of the Integrated Human Exposure Committee (IHEC) and Environmental Health Committee (EHC) to conduct a consultation on the efforts of the EPA to improve its risk assessment practices and to update its Exposure Guidelines.

DATES: September 6-7, 2006; the meeting regarding the EPA Risk Assessment Principles and Practices will be held from 9 a.m. to 5 p.m. (Eastern Time) on Wednesday, September 6, 2006, and the Guidelines for Exposure Assessment will be held from 9 am to 4 pm (Eastern Time) on Thursday September 7, 2006.

Location: The meetings will take place at the Science Advisory Board Conference Center, 1025 F St., NW., Washington DC 20004.

FOR FURTHER INFORMATION CONTACT: Any member of the public wishing to obtain general information concerning this meeting should contact Dr. Sue Shallal, Designated Federal Officer (DFO), EPA Science Advisory Board (1400F), U.S. Environmental Protection Agency, 1200 Pennsylvania Avenue, NW., Washington, DC 20460; via telephone/voice mail: (202) 343-9977; fax: (202) 233-0643; or e-mail at: shallal.suhair@epa.gov. General information concerning the EPA Science Advisory Board can be found on the EPA Web Site at: http://www.epa.gov/sab.

Technical Contact: Any questions concerning the Risk Assessment Principles and Practices Staff Paper should be directed to Dr. William Sette, OSA, at phone: (202) 564-0693, or e-mail: sette.william@epa.gov. Any questions concerning the update of the EPA Guidelines for Exposure Assessment should be directed to Mr. Gary Bangs, RAF, at phone: (202) 564-6667 or e-mail: bangs.gary@epa.gov.

SUPPLEMENTARY INFORMATION: Pursuant to the Federal Advisory Committee Act, Public Law 92-463, notice is hereby given that the SAB Integrated Human Exposure Committee and the Environmental Health Committee will hold two public meetings to conduct a consultation on the efforts of the EPA to improve its risk assessment practices and to update its Exposure Guidelines. The SAB was established by 42 U.S.C. 4365 to provide independent scientific and technical advice to the Administrator on the technical basis for Agency positions and regulations. The SAB is a Federal Advisory Committee chartered under the Federal Advisory Committee Act (FACA), as amended, 5 U.S.C., App. The SAB will comply with the provisions of FACA and all appropriate SAB Staff Office procedural policies.

Background: In March 2004, EPA issued a staff paper entitled, “An Examination of EPA Risk Assessment Principles and Practices” (available at: http://www.epa.gov/osa/pdfs/ratf-final.pdf). The staff paper presented the perspectives of EPA risk assessors on their understanding of how risk assessments are conducted in EPA and staff recommendations for strengthening and improving its practices. EPA is seeking the SAB's recommendations regarding their current and planned activities to improve risk assessment.

In addition, in 1992, EPA's Guidelines for Exposure Assessment (available at: http://cfpub.epa.gov/ncea/cfm/recordisplay.cfm?deid=15263) was published. Exposure assessment has changed significantly with the advancement of probabilistic analyses, human activity factors, and consideration of susceptible populations and life stages. EPA is now seeking advice on the scope and content of this update from the SAB.

Availability of Meeting Materials: The draft agendas and other materials will be posted on the SAB Web site at: http://www.epa.gov/sab/ prior to the meetings.

Procedures for Providing Public Input: Interested members of the public may submit relevant written or oral information for these SAB committees to consider during the consultative process. Oral Statements: In general, individuals or groups requesting an oral presentation at a public meeting will be limited to five minutes per speaker, with no more than a total of one hour for all speakers. Interested parties should contact Dr. Sue Shallal, DFO, in writing (preferably via e-mail), by August 29, 2006, at the contact information noted above, to be placed on the public speaker list for this meeting. Written Statements: Written statements should be received in the SAB Staff Office by August 25, 2006, so that the information may be made available to the SAB committees for their consideration prior to this meeting. Written statements should be supplied to the DFO in the following formats: one hard copy with original signature, and one electronic copy via e-mail (acceptable file format: Adobe Acrobat PDF, WordPerfect, MS Word, MS PowerPoint, or Rich Text files in IBM-PC/Windows 98/2000/XP format).

Accessibility: For information on access or services for individuals with disabilities, please contact Dr. Sue Shallal at (202) 343-9977 or shallal.suhair@epa.gov. To request accommodation of a disability, please contact Dr. Shallal preferably at least ten days prior to the meeting, to give EPA as much time as possible to process your request.

Dated: August 7, 2006.
Anthony F. Maciorowski,
Associate Director for Science, EPA Science Advisory Board Staff Office.

[FR Doc. E6-13158 Filed 8-10-06; 8:45 am]

BILLING CODE 6560-50-P